EQUAL EMPLOYMENT OPPORTUNITY COMMISSION

Agency Information Collection Activities: Proposed Collection; Submission for OMB Review

AGENCY: Equal Employment Opportunity Commission.

ACTION: Final Notice of Submission for OMB Review—Extension Without Change: Elementary-Secondary Staff Information Report (EEO-5).

SUMMARY: In accordance with the Paperwork Reduction Act (PRA), the Equal Employment Opportunity Commission (EEOC or Commission) hereby gives notice that it has submitted to the Office of Management and Budget (OMB) a request for a three-year extension without change of the Elementary-Secondary Staff Information Report (EEO-5).

DATES: Written comments on this notice must be submitted on or before June 5, 2014.

ADDRESSES: A copy of this ICR and applicable supporting documentation submitted to OMB for this review may be obtained from: Ronald Edwards, Equal Employment Opportunity Commission, Director, Program Research and Surveys Division, 131 M Street NE., Room 4SW30F, Washington, DC 20507. Comments on this final notice must be submitted to Chad A. Lallemand, Office of Information and Regulatory Affairs, Office of Management and Budget, 725 17th Street NW., Room 10235, New Executive Office Building, Washington, DC 20503 or electronically mailed to Chad_A._Lallemand@omb.eop.gov. Copies of comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number). Receipt of FAX transmittals will not be acknowledged, except that the sender may request confirmation of receipt by calling the Executive Secretariat staff at (202) 663-4070 (voice) or (202) 663-4074 (TTD). (These are not toll-free telephone numbers.) Instead of sending written comments to EEOC, you may submit comments and attachments electronically at http://www.regulations.gov, which is the Federal eRulemaking Portal. Follow the instructions online for submitting comments. All comments received through this portal will be posted without change, including any personal information you provide. Copies of comments submitted by the public to EEOC directly or through the Federal eRulemaking Portal will be available for review, by advance appointment only, at the Commission's library between the hours of 9:00 a.m. and 5:00 p.m. Eastern Time or can be reviewed at http://www.regulations.gov. To schedule an appointment to inspect the comments at EEOC's library, contact the library staff at (202) 663-4630 (voice) or (202) 663-4641 (TTY). (These are not toll-free numbers.)

FOR FURTHER INFORMATION CONTACT: Ronald Edwards, Equal Employment Opportunity Commission, Director, Program Research and Surveys Division, 131 M Street NE., Room 4SW30F, Washington, DC 20507; (202) 663-4949 (voice) or (202) 663-7063 (TTY).

SUPPLEMENTARY INFORMATION: A notice that EEOC would be submitting this request was published in the Federal Register on January 28, 2014 allowing for a 60-day public comment period. There were no comments received from the public.

Overview of Information Collection

Type of Review: Extension—No change.

OMB Control No.: 3046-0003.

Collection Title: Elementary-Secondary Staff Information Report (EEO-5).

Frequency of Report: Biennial.

Type of Respondent: Certain public elementary and secondary school districts.

Description of Affected Public: Certain public elementary and secondary school districts.

Number of Responses: 6,190.

Reporting Hours: 15,475.

Cost to the Respondents: 0.

Federal Cost: $190,000.

Number of Forms: 1.

Form Number: EEOC Form 168A.

Abstract: Section 709(c) of Title VII of the Civil Rights Act of 1964, as amended, 42 U.S.C. 2000e-8(c), requires employers to make and keep records relevant to a determination of whether unlawful employment practices have been or are being committed, to preserve such records, and to produce reports as the Commission prescribes by regulation or order. Accordingly, the EEOC issued regulations, Title 29, Chapter XIV, Subpart F, § 1602.39-45, prescribing the reporting requirements for elementary and secondary public school districts. The EEOC uses EEO-5 data to investigate charges of employment discrimination against elementary and secondary public school districts. The data also are used for research. The data are shared with the Department of Education (Office for Civil Rights) and the Department of Justice. Pursuant to Section 709(d) of Title VII of the Civil Rights Act of 1964, as amended, EEO-5 data also are shared with state and local Fair Employment Practices Agencies (FEPAs).

Revisions to the form that amended the race and ethnicity categories were approved by OMB in 2012. The previously used categories (White, Black, Hispanic, Asian or Pacific Islander, and American Indian or Alaska Native) were replaced with the following: Hispanic or Latino; White; Black or African American; Asian; Native Hawaiian or Other Pacific Islander; American Indian or Alaska Native; and Two or More Races. EEOC is seeking a three year extension without change of the form approved by OMB in 2012.

Burden Statement: The estimated number of respondents included in the biennial EEO-5 survey is 6,190 public elementary and secondary school districts. The form is estimated to impose 15,475 burden hours biennially.

Dated: April 30, 2014.
For the Commission.
Jacqueline A. Berrien,
Chair.

[FR Doc. 2014-10354 Filed 5-5-14; 8:45 am]

BILLING CODE 6570-01-P